ENVIRONMENTAL PROTECTION AGENCY

[Regional Docket No. V-2005-1, FRL-8220-9]

Clean Air Act Operating Permit Program; Petition for Objection to State Operating Permit for Onyx Environmental Services

AGENCY: Environmental Protection Agency (EPA).

ACTION: Notice of final amended order on petition to object to a title V operating permit.

SUMMARY: This document announces that the EPA Administrator has responded to a citizen petition asking EPA to object to a Clean Air Act (Act) title V operating permit proposed by the Illinois Environmental Protection Agency (IEPA). Specifically, the Administrator has partially granted and partially denied the petition submitted by the Sierra Club and American Bottom Conservancy to object to the proposed operating permit for Onyx Environmental Services. EPA originally responded to the petition in an order dated February 1, 2006. However, EPA has become aware of a factual error in the February 1, 2006, order. To correct that error, on August 9, 2006, the Administrator signed an order amending the February 1, 2006, order by striking out the section entitled “VI. Monitoring”, and replacing it with the language as described below. The remainder of the February 1, 2006, order remains undisturbed and in effect.

Pursuant to section 505(b)(2) of the Act, a petitioner may seek in the United States Court of Appeals for the appropriate circuit judicial review of those portions of the petition which EPA denied. Any petition for review shall be filed within 60 days from the date a notice appears in the Federal Register, pursuant to section 307 of the Act.

ADDRESSES: You may review copies of the final amended order, the petitions, and other supporting information at the EPA Region 5 Office, 77 West Jackson Boulevard, Chicago, Illinois 60604. If you wish to examine these documents, you should make an appointment at least 24 hours before visiting day. Additionally, the final order for Onyx Environmental Services is available electronically at: http://www.epa.gov/region07/programs/artd/air/title5/petitiondb/petitiondb2004.htm.

FOR FURTHER INFORMATION CONTACT: Pamela Blakley, Chief, Air Permitting Section, Air Programs Branch, Air and Radiation Division, EPA, Region 5, 77 West Jackson Boulevard, Chicago, Illinois 60604, telephone (312) 886-4447.

SUPPLEMENTARY INFORMATION: The Act affords EPA a 45-day period to review, and to object to as appropriate, a title V operating permit proposed by a state permitting authority. Section 505(b)(2) of the Act, 42 U.S.C. 7661d(b)(2), authorizes any person to petition the EPA Administrator within 60 days after the expiration of the EPA review period to object to a title V operating permit if EPA has not done so. Petitions must be based only on objections to the permit that were raised with reasonable specificity during the public comment period, unless the petitioner demonstrates that it was impracticable to raise the issues during the comment period, or the grounds for the issues arose after the public comment period.

On February 18, 2004, the EPA received from the Sierra Club and American Bottom Conservancy a petition requesting that EPA object to the proposed title V operating permit for Onyx Environmental Services. The Sierra Club and American Bottom Conservancy alleged that the proposed permit (1) Violated EPA's commitments and obligations to address environmental justice issues; (2) lacked a compliance schedule and certification of compliance; (3) did not address modifications Onyx took that allegedly triggered new source review requirements; (4) was based on an eight-year old application; (5) lacked practically enforceable conditions; (6) contained a permit shield that broadly insulates it from ongoing and recent violations; (7) failed to include conditions that meet the legal requirements for monitoring; (8) did not contain a statement of basis; (9) did not require prompt reporting of violations; and (10) failed to establish annual mercury and lead limits.

On February 1, 2006, the Administrator signed an order partially granting and partially denying the petition. The order explains the reasons behind EPA's conclusion that the IEPA must: (1) Address the significant comments concerning the possible need for a compliance schedule in the proposed permit; (2) require Onyx Environmental Services to submit a current compliance certification; (3) address comments concerning modifications made at the Onyx facility and the potential applicability of new source review requirements; (4) require Onyx Environmental Services to submit an updated application that reflects all applicable requirements for the source; (5) make clear either in the permit or statement of basis what constitutes “normal” operating conditions; (6) amend the permit to limit Onyx Environmental Service's election to regulatory requirements applicable to hazardous waste incinerators; (7) define the terms “container” and “containerized solids,” or explain in the statement of basis where the terms are defined; (8) provide information on where the applicable specifications pertaining to “manufacturer's specifications” can be located; (9) provide a statement of basis that complies with the requirements of EPA regulations and post its statement of basis on a Web site, or make available to the public on the Web site a notice telling the public where it can obtain the statement of basis; and (10) explain how a thirty day reporting requirement for all deviations is prompt or require a shorter reporting period for deviations as is provided for in 40 CFR Part 71. The order also explains the reasons for denying Sierra Club and American Bottom Conservancy's remaining claims.

The August 9, 2006, amended order grants the petition for the claim that the permit lacks monitoring required under other provisions of 40 CFR Part 70.6. EPA directs IEPA to revise the permit to incorporate all particulate matter monitoring required for the facility under 40 CFR Part 63, Subpart EEE, including a leak detection system.

Dated: September 12, 2006.
Norman Niedergang,
Acting Regional Administrator, Region 5.

[FR Doc. E6-15537 Filed 9-18-06; 8:45 am]

BILLING CODE 6560-50-P